INTERNATIONAL TRADE COMMISSION

[Investigation No. 337-TA-1268]

Certain Capacitive Touch Sensing Systems, Capacitive Touch Sensing Controllers, Microcontrollers With Capacitive Touch Sensing Functionality, and Components Thereof; Commission Determination Not To Review Two Initial Determinations Terminating an Investigation Based on Settlement Agreements; Termination of Investigation

AGENCY: U.S. International Trade Commission.

ACTION: Notice.

SUMMARY: Notice is hereby given that the U.S. International Trade Commission has determined not to review two initial determinations (“IDs”) (Order Nos. 13 and 14) of the presiding administrative law judge (“ALJ”) granting a joint motion to terminate the investigation based on two settlement agreements. The investigation is terminated.

FOR FURTHER INFORMATION CONTACT: Lynde Herzbach, Office of the General Counsel, U.S. International Trade Commission, 500 E Street SW, Washington, DC 20436, telephone (202) 205-3228. Copies of non-confidential documents filed in connection with this investigation may be viewed on the Commission's electronic docket (EDIS) at https://edis.usitc.gov. For help accessing EDIS, please email EDIS3Help@usitc.gov. General information concerning the Commission may also be obtained by accessing its internet server at https://www.usitc.gov. Hearing-impaired persons are advised that information on this matter can be obtained by contacting the Commission's TDD terminal on (202) 205-1810.

SUPPLEMENTARY INFORMATION: On June 29, 2021, the Commission instituted this investigation under section 337 of the Tariff Act of 1930, as amended, 19 U.S.C. 1337 (“section 337”) based on a complaint filed by Neodron Ltd. of Dublin, Ireland (“Neodron”). See 86 FR 34277-78. The complaint alleges a violation of section 337 based upon the importation into the United States, sale for importation, or sale after importation into the United States of certain capacitive touch sensing systems, capacitive touch sensing controllers, and microcontrollers with capacitive touch sensing functionality, and components thereof by reason of infringement of certain claims of U.S. Patent Nos. 8,432,173; 8,749,251; 9,372,580; and 9,024,790. Id. The complaint further alleges that a domestic industry exists. Id. The notice of investigation names seven respondents, including Renesas Electronics Corporation of Tokyo, Japan and Renesas Electronics America Inc. of Milpitas, California (collectively, “Renesas Respondents”); Renesas Technology America, Inc. of Milpitas, California; Cypress Semiconductor Corp. of San Jose, California (“Cypress”); ST Microelectronics N.V., STMicroelectronics, Inc., and STMicroelectronics (North America) Holding, Inc. all of Geneva, Switzerland (collectively, “ST”). See id. The Office of Unfair Import Investigations (“OUII”) is also named as a party. Id.

Renesas Technology America, Inc. was previously terminated from the investigation based on partial withdrawal of the complaint. Order No. 9 (Aug. 12, 2021), unreviewed by Comm'n Notice (Sept. 9, 2021).

On October 15, 2021, Neodron and the Renesas Respondents, Cypress, and ST filed an unopposed joint motion to terminate the investigation based on two settlement agreements. On October 25, 2021, OUII filed a response in support of the joint motion.

On October 27, 2021, the presiding ALJ issued the two subject IDs granting the joint motion to terminate the investigation. See Order No. 13 (Oct. 27, 2021); Order No. 14 (Oct. 27, 2021). The ALJ issued separate IDs to address the parties' limited service requests. The subject IDs find that the joint motion complies with Commission Rule 210.21(b)(1) (19 CFR 210.21(b)) and that there are no extraordinary circumstances that would warrant denying the motion. The IDs also find that termination of the investigation based on settlement would not be contrary to the public interest.

No party petitioned for review of the subject IDs.

The Commission has determined not to review the subject IDs (Order Nos. 13 and 14). The investigation is terminated.

The Commission vote for this determination took place on November 16, 2021.

The authority for the Commission's determination is contained in section 337 of the Tariff Act of 1930, as amended (19 U.S.C. 1337), and in Part 210 of the Commission's Rules of Practice and Procedure (19 CFR part 210).

By order of the Commission.
Issued: November 16, 2021.
Lisa Barton,
Secretary to the Commission.

[FR Doc. 2021-25344 Filed 11-19-21; 8:45 am]

BILLING CODE 7020-02-P